DEPARTMENT OF AGRICULTURE

Agricultural Marketing Service

7 CFR Part 810

[Doc. No. AMS-FGIS-18-0053]

United States Standards for Canola

AGENCY: Agricultural Marketing Service, USDA.

ACTION: Request for information.

SUMMARY: The United States Department of Agriculture's (USDA) Agricultural Marketing Service (AMS) is seeking comments from the public regarding the United States (U.S.) Standards for Canola under the United States Grain Standards Act (USGSA). To ensure that standards and official grading practices remain relevant, AMS invites interested parties to comment on whether the current canola standards and grading practices need to be changed.

DATES: We will consider comments we receive by August 28, 2018.

ADDRESSES: Submit comments or notice of intent to submit comments by any of the following methods:

• Postal Mail: Please send your comment addressed to Kendra Kline, AMS, USDA, 1400 Independence Avenue SW, Room 2043-S, Washington, DC 20250-3614.

• Hand Delivery or Courier: Kendra Kline, AMS, USDA, 1400 Independence Avenue SW, Room 2043-S, Washington, DC 20250-3614.

• Internet: Go to http://www.regulations.gov. Follow the on-line instructions for submitting comments.

FOR FURTHER INFORMATION CONTACT: Patrick McCluskey, USDA AMS; Telephone: (816) 659-8403; Email: Patrick.J.McCluskey@ams.usda.gov.

SUPPLEMENTARY INFORMATION: Section 4 of the USGSA (7 U.S.C. 76(a)) grants the Secretary of Agriculture the authority to establish standards for canola and other grains regarding kind, class, quality, and condition. The canola standards were established by USDA on February 28, 1992 (57 FR 3271) and appear in the USGSA regulations at 7 CFR 810.301-810.306. The standards facilitate canola marketing and define U.S. canola quality in the domestic and global marketplace. The standards define commonly used industry terms; contain basic principles governing the application of standards, such as the type of sample used for a particular quality analysis; the basis of determination; and specify grades and grade requirements. Official procedures for determining grading factors are provided in Grain Inspection Handbook, Book II, Chapter 3, “Canola”. The Handbook also includes standardized procedures for additional quality attributes not used to determine grade, such as dockage and moisture content. Together, the grading standards and official procedures allow buyers and sellers to communicate quality requirements, compare canola quality using equivalent forms of measurement, and assist in price discovery.

The realignment of offices within the U.S. Department of Agriculture authorized by the Secretary's Memorandum dated November 14, 2017, “Improving Customer Service and Efficiency”, eliminates the Grain Inspection, Packers and Stockyards Administration (GIPSA) as a standalone agency. Federal Grain Inspection Service (FGIS) activities, formerly part of GIPSA, are now organized under AMS. FGIS grading and inspection services are provided through a network of federal, state, and private laboratories that conduct tests to determine the quality and condition of canola. These tests are conducted in accordance with applicable standards using approved methodologies and can be applied at any point in the marketing chain. Furthermore the tests yield rapid, reliable, and consistent results. In addition, FGIS-issued certificates describing the quality and condition of graded canola are accepted as prima facie evidence in all Federal courts. U.S. Standards for Canola and the affiliated grading and testing services offered by FGIS verify that a seller's canola meet specified requirements, and ensure that customers receive the quality of canola they purchased.

In order for U.S. standards and grading procedures for canola to remain relevant, AMS is issuing this request for information to invite interested parties to submit comments, ideas, and suggestions on all aspects of the U.S. Standards for Canola and official procedures.

Authority: 7 U.S.C. 71-87k.

Dated: June 26, 2018.
Greg Ibach,
Under Secretary, Marketing and Regulatory Programs.

[FR Doc. 2018-14016 Filed 6-28-18; 8:45 am]

BILLING CODE 3410-02-P